DEPARTMENT OF LABOR

Office of the Secretary

[Secretary's Order—15-2006]

Department of Labor Employment of Individuals With Disabilities and Veterans With Disabilities

1. Purpose

To prescribe Department of Labor (DOL) policy and responsibilities with regard to employment of individuals with disabilities and veterans with disabilities.

2. Directives Affected

Secretary's Order 9-78 is canceled.

3. Background

Section 501 of the Rehabilitation Act of 1973 (Pub. L. 93-112, Title V), as amended (Pub. L. 93-516), requires the development and implementation of affirmative employment programs for the hiring, placement, and advancement of individuals with disabilities, as well as annual reports. Further, Executive Order 13164 requires Federal agencies to establish written procedures to facilitate the provision of reasonable accommodation for individuals with disabilities so that they can enjoy the benefits and privileges of employment equal to those enjoyed by employees without disabilities.

4. Policy

It is the policy of the Department to encourage the use of the Government-wide special hiring authorities, as provided for by the Office of Personnel Management, to employ and advance in employment qualified persons with disabilities and qualified veterans with disabilities. The Department shall also ensure that the special needs of these employees are met so they may have equal access to the privileges and benefits of the workplace.

5. Employment of Individuals With Disabilities and Veterans With Disabilities

The goal of the Department is to ensure that qualified individuals with disabilities, including veterans with disabilities and employees who become disabled, have a full measure of opportunities in hiring, placement, retention, and advancement in employment. This goal is an integral part of the ongoing personnel management program, and is to be accomplished by the employment of qualified persons with disabilities in a broad range of grade levels and in a representative variety of occupational series with career advancement opportunities commensurate with those for all employees within an organization.

6. Responsibilities

A. The Assistant Secretary for Administration and Management has responsibility for the overall administration of the Department's programs for employment of qualified individuals with disabilities, including veterans with disabilities; the issuance of departmental directives in support of these programs; and oversight of DOL Agency responsibilities for effective implementation of DOL policies. Additionally, the Office of the Assistant Secretary for Administration and Management serves as the primary reporting agency on DOL affirmative employment programs for qualified individuals with disabilities and veterans with disabilities.

B. The Office of Disability Employment Policy is available to provide guidance and assistance for DOL initiatives to further eliminate barriers to employment of qualified persons with disabilities.

C. The Veterans' Employment and Training Service is available to provide guidance and assistance for DOL initiatives to further eliminate barriers to the employment of qualified veterans with disabilities.

D. DOL Agency Heads and Regional Administrators—Office of the Assistant Secretary for Administration and Management are responsible for effectuating affirmative employment initiatives in their respective Agencies; submitting statistical, evaluative, and narrative reports to OASAM in support of Congressionally-mandated reports; and support and implementation of the Department's policy within their respective Agencies, including but not limited to issuing policy directives to managers and supervisors expressing strong support for the employment of qualified individuals with disabilities, including veterans with disabilities; and conducting recruitment activities through their Human Resource Offices to locate qualified individuals with disabilities and veterans with disabilities.

E. The Solicitor of Labor is responsible for providing legal advice and technical assistance to all officials of the Department who are responsible for implementing DOL policy regarding the employment of qualified persons with disabilities, including veterans with disabilities.

7. Effective Date

This Order is effective immediately.

Dated: June 20, 2006.
Elaine L. Chao,
Secretary of Labor.

[FR Doc. 06-5741 Filed 6-27-06; 8:45 am]

BILLING CODE 4510-23-P